FEDERAL COMMUNICATIONS COMMISSION

[Report No. 2448]

Petitions for Reconsideration and Clarification of Action in Rulemaking Proceedings

October 23, 2000.

Petitions for Reconsideration and Clarification have been filed in the Commission's rulemaking proceedings listed in this Public Notice and published pursuant to 47 CFR Section 1.429(e). The full text of this document is available for viewing and copying Room CY-A257, 445 12th Street, S.W., Washington, D.C. or may be purchased from the Commission's copy contractor, ITS, Inc. (202) 857-3800. Oppositions to these petitions must be filed by November 14, 2000. See § 1.4(b)(1) of the Commission's rules (47 CFR 1.4(b)(1)). Replies to an opposition must be filed within 10 days after the time for oppositions have expired.

Subject: Implementation of 911 Act; Use of N11 Codes and Other Abbreviated Dialing Arrangements (CC Docket No. 92-105, WT Docket No. 00-110).

Number of Petitions Filed: 1.

Subject: Amendment of the Commission's Rules Regarding Installment Payment Financing for Personal Communications Services (PCS) Licensees (WT Docket No. 97-82).

Number of Petitions Filed: 5.

Federal Communications Commission.
Magalie Roman Salas,
Secretary.

[FR Doc. 00-27746 Filed 10-27-00; 8:45 am]

BILLING CODE 6712-01-M